DEPARTMENT OF COMMERCE

National Oceanic and Atmospheric Administration

[RTID 0648-XE091]

South Atlantic Fishery Management Council; Public Meetings

AGENCY: National Marine Fisheries Service (NMFS), National Oceanic and Atmospheric Administration (NOAA), Commerce.

ACTION: Notice of public meetings.

SUMMARY: The South Atlantic Fishery Management Council (Council) will hold four in-person port meetings gathering input on Atlantic king mackerel and Atlantic Spanish mackerel as managed by the Fishery Management Plan for Coastal Migratory Pelagic Resources in the Gulf of Mexico and Atlantic Region.

DATES: The port meetings will take place July 30, 2024, August 1, 2024, August 7, 2024, and August 8, 2024. The port meetings will begin at 6 p.m., local time. For specific dates and times, see SUPPLEMENTARY INFORMATION.

ADDRESSES:

Meeting addresses: The public hearings will be held in Pooler, GA; Townsend, GA; Murrells Inlet, SC; Charleston, SC. For specific locations, see SUPPLEMENTARY INFORMATION. Please visit the South Atlantic Council website at www.safmc.net for meeting materials and location information.

Council address: South Atlantic Fishery Management Council, 4055 Faber Place Drive, Suite 201, N Charleston, SC 29405.

FOR FURTHER INFORMATION CONTACT: Christina Wiegand, Fishery Social Scientist, SAFMC; phone: (843) 571-4366 or toll free: (866) SAFMC-10; fax: (843) 769-4520; email: christina.wiegand@safmc.net.

SUPPLEMENTARY INFORMATION: The South Atlantic Fishery Management Council is hosting a series of port meetings along the Atlantic coast throughout 2024 in order to take a focused look at the Atlantic king mackerel and Atlantic Spanish mackerel fisheries. The agenda for the four in-person public hearings is as follows: Council staff will briefly introduce port meetings and the Council's goals and objectives. Attendees will then have the opportunity, through a series of discussion-based breakout groups, to provide input on a variety of issues related to the Atlantic king mackerel and Spanish mackerel fisheries including changing environmental conditions, needed management changes, commercial and recreational fishery dynamics, and the goals and objectives of the Coastal Migratory Pelagics Fishery Management Plan. Information provided during port meetings will be summarized and presented to the Council for use in management decision-making. Additional port meetings will be scheduled along the Atlantic coast throughout the remainder of 2024.

In-Person Locations:

Tuesday, July 30, 2024: National Museum of the Mighty Eighth Air Force, 175 Bourne Ave., Pooler, GA 31322; phone: (912) 748-8888;

Thursday, August 1, 2024: Sapelo Saltwater Fishing Club, 3576 Old Shellman Rd., Townsend, GA 31331;

Wednesday, August 7, 2024: Murrells Inlet Community Center, 4462 Murrells Inlet Rd., Murrells Inlet, SC 29576; phone: (843) 545-3651; and

Thursday, August 8, 2024: South Carolina Department of Natural Resources Outdoor Classroom, 217 Fort Johnson Rd., Charleston, SC 29412; phone: (843) 953-9300.

Special Accommodations

These meetings are physically accessible to people with disabilities. Requests for auxiliary aid should be directed to the Council office (see ADDRESSES) 3 days prior to the meeting.

Note: The times and sequence specified in this agenda are subject to change.

Authority: 16 U.S.C. 1801 et seq.

Dated: July 3, 2024.
Rey Israel Marquez,
Acting Deputy Director, Office of Sustainable Fisheries, National Marine Fisheries Service.

[FR Doc. 2024-15002 Filed 7-8-24; 8:45 am]

BILLING CODE 3510-22-P